DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps.

Dates and Times: July 10, 2008, 3 p.m.-5 p.m.; July 11, 2008, 8:30 a.m.-5 p.m.; and July 12, 2008, 9 a.m.-5 p.m.; and July 13, 2008, 7 a.m.-11 a.m.

Place: Ambassador Hotel, 2308 W. Wisconsin Ave., Milwaukee, Wisconsin 53233, Phone: 414-345-5000.

Status: The meeting will be open to the public.

Agenda: The Council will be conducting a site visit to a local health center in Milwaukee, Wisconsin, and will be meeting the National Health Service Corps program participants to get feedback on the program. The agenda will also cover priorities to be set for the upcoming calendar year for the Council.

For Further Information Contact: Tira Patterson, Bureau of Clinician Recruitment and Service, Health Resources and Services Administration, Parklawn Building, Room 8A-55, 5600 Fishers Lane, Rockville, MD 20857; e-mail: TPatterson@hrsa.gov; telephone: 301-594-4140.

Dated: May 28, 2008.
Alexandra Huttinger,
Director, Division of Policy Review and Coordination.

[FR Doc. E8-12461 Filed 6-3-08; 8:45 am]

BILLING CODE 4165-15-P